DEPARTMENT OF THE INTERIOR

Bureau of Land Management

[CO-160-03-1220-DU-241E]

Notice of Intent To prepare a Recreation Area Management Plan and an Amendment to the Gunnison Resource Management Plan for the Hartman Rocks Recreation Area

AGENCY: Bureau of Land Management, Interior.

ACTION: Notice of intent to prepare a Recreation Area Management Plan (RAMP) and an amendment to the Gunnison Resource Management Plan (RMP) for the Hartman Rocks Recreation Area in Gunnison County, Colorado.

SUMMARY: The Bureau of Land Management (BLM) intends to prepare a RAMP with an associated Environmental Assessment (EA) for the Hartman Rocks area near Gunnison, Colorado. The planning area encompasses approximately 10,000 acres of public land. This proposed action is being taken in response to increasing use and the changing needs and interests of public land users of this popular recreation area located near the city of Gunnison. The BLM will work collaboratively with interested parties to identify the management decisions that are best suited to local, regional, and national needs and concerns. The public scoping process will identify planning issues and develop planning criteria, including an evaluation of the existing management direction in the context of the needs and interests of the public. It is probable that the collaborative planning process will recommend changes to the Gunnison RMP for this area so this notice provides for this contingency. If desired management actions identified in the planning process can be carried out within the existing guidance of the RMP then an RMP Amendment will not be necessary.

DATES: This notice initiates the public scoping process. Comments on issues and planning criteria may be submitted in writing to the address listed below and will be accepted throughout the creation of the Draft RAMP/Draft EA. All public meetings will be announced through the local news media, newsletters, and other mediums at least 15 days prior to the event. The minutes and list of attendees for each meeting will be available to the public and open for 30 days to any participant who wishes to clarify the views they expressed. Public meetings will be held throughout the plan scoping and preparation period. To ensure local community participation and input, public meetings will be scheduled at times that are convenient for the public to attend. Early participation is encouraged to help determine the future management of the Hartman Rocks Recreation Area.

ADDRESSES: Written comments should be sent to Bureau of Land Management, Gunnison Field Office, 216 N. Colorado St., Gunnison, CO 81230; Fax (970) 642-4425. Documents pertinent to this proposal may be examined at the Gunnison Field Office. Comments, including names and street addresses of respondents, will be available for public review at the Gunnison Field Office during regular business hours (7:30am to 4:30pm), Monday through Friday, except holidays, and may be published as part of the EA. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Arden Anderson, Telephone—(970) 642-4454; E-mail—Arden_Anderson@co.blm.gov

SUPPLEMENTARY INFORMATION: The Hartman Rocks Recreation Area is a popular site for a variety of recreation activities in the urban interface zone near Gunnison, Colorado. The increased use over the years as well as changing needs and interests of the public necessitates a more detailed management strategy beyond the general guidelines contained in the Gunnison RMP (completed in 1993). Preliminary issues and management concerns have been identified by BLM personnel, other agencies, and in meetings with individuals and user groups. They represent the BLM's knowledge to date on the existing issues and concerns with current management. The major issue themes that will be addressed in the plan include: Management and protection of public land resources; recreation/visitor use and safety; access and transportation on the public lands; integrating management with the needs of the community and other agencies; reducing conflicts between different public land visitors and balancing multiple uses.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase.

An interdisciplinary approach will be used to develop the plan in order to consider the variety of resource issues and concerns identified. Disciplines involved in the planning process will include specialists with expertise in outdoor recreation, rangeland management, archaeology, wildlife, fisheries and soils.

Dated: December 6, 2003.
Barry A. Tollefson,
Gunnison Field Manager.

[FR Doc. 03-3165 Filed 2-7-03; 8:45 am]

BILLING CODE 4310-JB-P